DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160, the Department of the Army announces the following committee meeting:

Name of Committee: Army Science Board (ASB).

Date(s) of Meeting: July 21, 2010.

Time(s) of Meeting: 0800-1330.

Location: Beckman Center, 100 Academy, Irvine, CA 92617.

Purpose: Adopt the findings and recommendations for phase one of the following studies: Strengthening Sustainability and Resiliency of a Future Force, Tactical Non-cooperative Biometric Systems and Soldier Resilience and Performance Sustainment.

Purposed Agenda:

Wednesday 21 July:

0800-0930 Study results for Strengthening Sustainability and Resiliency of a Future Force are presented to the ASB. The ASB deliberates and votes to adopt the findings and recommendations on the first phase of the study.

0930-0945 Break.

0945-1115 Study results for the Tactical Non-Cooperative Biometric Systems are presented to the ASB. The ASB deliberates and votes to adopt the findings and recommendations on the first phase of the study.

1115-1200 Lunch Break for the ASB Members.

1200-1330 Study results for Soldier Resilience and Performance Sustainment are presented to the ASB. The ASB deliberates and votes to adopt the findings and recommendations on the first phase of the study.

FURTHER INFORMATION CONTACT: For information please contact Mr. Justin Bringhurst at justin.bringhurst@us.army.mil or (703) 604-7468 or Carolyn German at carolyn.t.german@us.army.mil or (703) 604-7490.

SUPPLEMENTARY INFORMATION: None.

Brenda S. Bowen,
Army Federal Register Liaison Officer.

[FR Doc. 2010-16136 Filed 7-1-10; 8:45 am]

BILLING CODE 3710-08-P